DEPARTMENT OF TRANSPORTATION

Federal Aviation Administration

14 CFR Part 71

[Docket No. FAA-2010-0299; Airspace Docket No. 10-AAL-9]

Revision of Class E Airspace; Galena, AK

AGENCY: Federal Aviation Administration (FAA), DOT.

ACTION: Final Rule.

SUMMARY: This action revises Class E airspace at Galena, AK, to accommodate three amended Standard Instrument Approach Procedures (SIAPs) and the development of one Obstacle Departure Procedure (ODP) at the Edward G. Pitka Sr. Airport. The FAA is taking this action to enhance safety and management of Instrument Flight Rules (IFR) operations at Edward G. Pitka Sr. Airport.

DATES: Effective 0901 UTC, September 23, 2010. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

On Thursday April 8, 2010, the FAA published a notice of proposed rulemaking in the Federal Register to revise Class E airspace at Galena, AK (75 FR 17892).

Interested parties were invited to participate in this rulemaking proceeding by submitting written comments on the proposal to the FAA. No comments were received. The rule is adopted as proposed.

The Class E2 surface areas are published in paragraph 6002 in FAA Order 7400.9T, Airspace Designations and Reporting Points, signed August 27, 2009, and effective September 15, 2009, which is incorporated by reference in 14 CFR 71.1. The Class E airspace areas designated as 700/1,200 ft. transition areas are published in paragraph 6005 of FAA Order 7400.9T, Airspace Designations and Reporting Points, signed August 27, 2009, and effective September 15, 2009, which is incorporated by reference in 14 CFR 71.1. The Class E airspace designations listed in this document will be published subsequently in the Order.

The Rule

This action amends Title 14 Code of Federal Regulations (14 CFR) part 71 by revising Class E airspace at Edward G. Pitka Sr. Airport, AK, to accommodate three amended SIAPs and one new ODP at Edward G. Pitka Sr. Airport. This Class E airspace will provide adequate controlled airspace upward from the surface, and from 700 and 1,200 feet above the surface, for safety and management of IFR operations at Edward G. Pitka Sr. Airport.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Edward G. Pitka Sr. Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is amended as follows:

Paragraph 6002 Class E Airspace Designated as Surface Areas.

* * * * *

AAL AK E2 Galena, AK [Revised]

Edward G. Pitka Sr. Airport, AK

(Lat. 64°44′10″ N., long. 156°56′15″ W.)

Within a 4.2 mile radius of the Edward G. Pitka Sr. Airport, AK.

* * * * *

Paragraph 6005 Class E Airspace Extending Upward from 700 Feet or More Above the Surface of the Earth.

* * * * *

AAL AK E5 Galena, AK [Revised]

Edward G. Pitka Sr. Airport, AK

(Lat. 64°44′10″ N., long. 156°56′15″ W.)

That airspace extending upward from 700 feet above the surface within a 7.2-mile radius of the Edward G. Pitka Sr. Airport, AK, and within 3.8 miles either side of the 239 bearing from the Edward G. Pitka Sr. Airport, extending from the 7.2-mile radius to 12.9 miles west of the Edward G. Pitka Sr. Airport, and within 2.9 miles either side of the 110 bearing from the Edward G. Pitka Sr. Airport, extending from the 7.2-mile radius to 14.5 miles east of the Edward G. Pitka Sr. Airport; and that airspace extending upward from 1,200 feet above the surface within a 73-mile radius of the Edward G. Pitka Sr. Airport, AK.

Issued in Anchorage, AK, on May 28, 2010.
Michael A. Tarr,
Acting Manager, Alaska Flight Services Information Area Group.

[FR Doc. 2010-13985 Filed 6-10-10; 8:45 am]

BILLING CODE 4910-13-P